GENERAL SERVICES ADMINISTRATION

[OMB Control No. 3090-0080: Docket No. 2018-0001; Sequence No. 3]

Submission for OMB Review; General Services Administration Acquisition Regulation; Contract Financing Final Payment (GSA Form 1142 Release of Claims)

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an extension of a previously approved information collection requirement and the reinstatement of GSA Form 1142, Release of Claims, regarding final payment under construction and building services contract. GSA Contracting Officers have used this form to achieve uniformity and consistency in the release of claims process.

DATES: Submit comments on or before: August 13, 2018.

FOR FURTHER INFORMATION CONTACT: Leah Price, Procurement Analyst, General Services Acquisition Policy Division, GSA, by phone at 202-714-9482 or by email at leah.price@gsa.gov.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for Information Collection 3090-0080. Select the link “Comment Now” that corresponds with “Information Collection 3090-0080, Contract Financing Final Payment; GSA Form 1142, Release of Claims”. Follow the instructions on the screen. Please include your name, company name (if any), and “Information Collection 3090-0080, Contract Financing Final Payment; GSA Form 1142, Release of Claims” on your attached document.

• Mail: General Services Administration, Regulatory Secretariat Division (MVCB), 1800 F Street NW, Washington, DC 20405. ATTN: Ms. Mandell/IC 3090-0080, Contract Financing Final Payment; GSA Form 1142, Release of Claims.

Instructions: Comments received generally will be posted without change to http://www.regulations.gov, including any personal and/or business confidential information provided. To confirm receipt of your comment(s), please check www.regulations.gov, approximately two-to-three days after submission to verify posting (except allow 30 days for posting of comments submitted by mail).

SUPPLEMENTARY INFORMATION:

A. Purpose

The General Services Administration Acquisition Regulation (GSAR) clause 552.232-72 requires construction and building services contractors to submit a release of claims before final payment is made to ensure contractors are paid in accordance with their contract requirements and for work performed. GSA Form 1142, Release of Claims is used to achieve uniformity and consistency in the release of claims process.

B. Annual Reporting Burden

Respondents: 7,500.

Responses per Respondent: 1.

Annual Responses: 7,500.

Hours per Response: .10.

Total Burden Hours: 750.

C. Public Comments

A notice published in the Federal Register at 83 FR 13280 on March 28, 2018. No comments were received. Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW, Washington, DC 20405, telephone 202-501-4755. Please cite OMB Control No. 3090-0080, Contract Financing Final Payment; GSA Form 1142, Release of Claims, in all correspondence.

Dated: July 2, 2018.
Jeffrey A. Koses,
Director, Office of Acquisition Policy, Office of Government-wide Policy.

[FR Doc. 2018-14885 Filed 7-11-18; 8:45 am]

BILLING CODE 6820-61-P